DEPARTMENT OF ENERGY

Meeting of Energy Services Companies and the Federal Energy Management Program

AGENCY: Department of Energy (DOE), Office of Energy Efficiency and Renewable Energy.

ACTION: Notice of public meeting.

SUMMARY: This notice announces a public meeting of the Federal Energy Management Program (FEMP) within the Office of Energy Efficiency and Renewable Energy on the use of high-end technologies in energy savings performance contracts.

DATES: The public meeting will be held Wednesday, July 14, 2010, 9 a.m. until 12 Noon.

ADDRESSES: U.S. Department of Energy, 1000 Independence Avenue, SW., Washington, DC 20585, Call-in number: 301-903-9159.

FOR FURTHER INFORMATION CONTACT: http://www1.eere.energy.gov/femp/financing/espcs_publicforums.html, or contact Katy Christiansen at katherine.christiansen@hq.doe.gov, (202) 586-7930.

SUPPLEMENTARY INFORMATION:

Purpose of the Meeting: The purpose of the meeting is to provide an opportunity for the public to present comment on the increased use of high-end technology for energy savings performance contracts. Information on the current ESPC program at DOE can be found at http://www1.eere.energy.gov/femp/financing/espcs.html.

Tentative Agenda: Agenda will include the following:

• Recent changes in ESPC policies.

• Using the Best Commercially Available Energy-Efficient Technology.

• Using New and Emerging Technologies To Increase Savings and Expand Projects.

• Solid State Lighting.

• Case studies of New and Emerging Technologies in ESPC.

• Roundtable Discussion: Easing Barriers to ET in ESPC.

The meeting is open to the public. DOE invites participation by all interested parties.

For information on:

• The agenda;

• Facilities or services for individuals with disabilities;

• Requests for special assistance;

Contact: http://www1.eere.energy.gov/femp/financing/espcs_publicforums.html or Katy Christiansen at Katherine.christiansen@hq.doe.gov, (202) 586-7930.

Minutes: DOE will designate a DOE official to preside at the public meeting. The meeting will not be a judicial or evidentiary-type public hearing. A stenographer will be present to record and transcribe the proceedings. The minutes of the meeting will be available for public review and copying at the Freedom of Information Public Reading Room; Room 1E-190; Forrestal Building; 1000 Independence Avenue, SW., Washington, DC, between 9 a.m. and 4 p.m., Monday through Friday, except Federal holidays.

Public Participation: DOE reserves the right to schedule the order of presentations and to establish the procedures governing the conduct of the public meeting. After the public meeting, interested parties may submit further comments about the proceedings. The public meeting will be conducted in an informal, conference style. Each participant will be allowed to make a prepared general statement (within time limits determined by DOE) before discussion of a particular topic. DOE will permit other participants to comment briefly on any general statements. At the end of all prepared statements on a topic, DOE will permit participants to clarify their statements briefly and comment on statements made by others. DOE representatives may also ask questions of participants concerning other matters relevant to ESPCs and may accept additional comments or questions from those attending, as time permits.

Issued in Washington, DC on July 7, 2010.
Scott Richlen,
Acting FEMP Program Manager.

[FR Doc. 2010-16928 Filed 7-9-10; 8:45 am]

BILLING CODE 6450-01-P